DEPARTMENT OF HEALTH AND HUMAN SERVICES

Prospective Grant of Exclusive Trademark/Service Mark License for Best Bones Forever! Campaign Marks

AGENCY: Office on Women's Health, Office of the Assistant Secretary for Health, Office of the Secretary, Department of Health and Human Services .

ACTION: Notice.

SUMMARY: Pursuant to 42 U.S.C. 300u, notice is given that the Office on Women's Health (OWH) is soliciting proposals from entities and organizations for the opportunity to exclusively license the trademarks and service marks which are critical to communicating the messages of the Best Bones Forever! public health awareness campaign.

DATES: Representatives of eligible organizations should submit expressions of interest no later than 6:00 p.m. e.s.t. on June 17, 2014.

ADDRESSES: Expressions of interest may be directed electronically to ann.abercrombie@hhs.gov or mailed to the Office on Women's Health, Office of the Assistant Secretary for Health, Department of Health and Human Services, 200 Independence Avenue SW., Room 719E, Washington, DC 20201. Attention Ann Abercrombie.

FOR FURTHER INFORMATION CONTACT: Questions may be directed to Ann Abercrombie, program manager for womenshealth.gov and girlshealth.gov, Office on Women's Health, 200 Independence Avenue SW., Room 719E, Washington, DC 20201. Email: Ann.Abercrombie@hhs.gov.

SUPPLEMENTARY INFORMATION: OWH launched the Best Bones Forever! campaign in 2009 with the goal of improving bone health among adolescent girls by encouraging them to increase their calcium and vitamin D consumption and physical activity. After four successful years, OWH has made the strategic decision to bring their involvement in the Best Bones Forever! campaign to a close. OWH is looking for one organization to continue the campaign by promoting campaign messages nationally through an exclusive license to the campaign marks. Below are preferred qualifications for the exclusive licensee:

• National reach;

• established presence as a leader in bone health in communities around the United States;

• mission related to improving bone health among the public;

• previous involvement in the Best Bones Forever! Campaign;

• access to subject matter experts in osteoporosis and bone health; and

• experience leading public awareness campaigns.

Expressions of interest should outline eligibility in response to the qualifications bulleted above and be no more than two pages in length.

The OWH will grant one organization an exclusive U.S. license to use the marks below, as registered, in consideration for that organization's continuation of the Best Bones Forever! public health awareness campaign. No sublicensing will be permitted.

Registered Marks

BEST BONES FOREVER!, USPTO Reg. No. 3,911,698;

Exskullmation Point Design (Logo), USPTO Reg. No. 3,923,702; and

BEST BONES FOREVER! (Composite Logo Mark), USPTO Reg. No. 3,948,360.

Dated: April 10, 2014.
Nancy C. Lee,
Deputy Assistant Secretary for Health—Women's Health, Director, Office on Women's Health.

[FR Doc. 2014-08831 Filed 4-17-14; 8:45 am]

BILLING CODE 4150-42-P